DEPARTMENT OF DEFENSE

Office of the Secretary

[Docket ID: DOD-2016-OS-0106]

Proposed Collection; Comment Request

AGENCY: Defense Media Activity, DoD.

ACTION: Notice.

SUMMARY: In compliance with the Paperwork Reduction Act of 1995, the Office of Small Business Programs of Defense Media Activity announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 23, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of Small Business Programs, Defense Media Activity ATTN: Kandace Chappell, 6700 Taylor Avenue, Fort Meade, MD 20755 or call OSBP, Defense Media Activity, at 301-222-6262 or email at Kandace.m.perkins.civ@mail.mil.

SUPPLEMENTARY INFORMATION:

Title; Associated Form; and OMB Number: DMA Small Business Vendor Registry; OMB Control Number 0720-TBD.

Needs and Uses: The information collection requirement is necessary to obtain and record the public information of small businesses interested in doing business with the Defense Media Activity. All information requested from the Small Businesses is already made available through other public databases such as sba.gov. Requested information will include name of company, small business status, and types of products and services the company offers in addition to their CAGE and NAICS codes.

Affected Public: Business or other for profit.

Annual Burden Hours: 8.33.

Number of Respondents: 100.

Responses per Respondent: 1.

Annual Responses: 100.

Average Burden per Response: 5 minutes.

Frequency: On occasion.

Respondents are small businesses looking to learn more information on DMA's Procurement Process in addition to being informed of potential opportunities as they arise. This tool will serve as a Market Research tool that allows all those involved in the procurement process to be able to search and locate small businesses more easily when preparing procurement packages. This tool will serve as an in-house resource that can assist DMA in reaching mandated Small Business Goals.

Dated: October 19, 2016.
Aaron Siegel,
Alternate OSD Federal Register Liaison Officer, Department of Defense.

[FR Doc. 2016-25672 Filed 10-21-16; 8:45 am]

BILLING CODE 5001-06-P